COMMISSION ON CIVIL RIGHTS

District of Columbia Advisory Committee

AGENCY: United States Commission on Civil Rights.

ACTION: Notice of period during which individuals may apply to be appointed to the District of Columbia Advisory Committee; request for applications.

SUMMARY: Because the terms of the members of the District of Columbia Advisory Committee are expiring as of March 21, 2014, the United States Commission on Civil Rights hereby invites any individual who is eligible to be appointed to apply. The memberships covered by this notice are exclusively for the District of Columbia Advisory Committee, and applicants must be residents of District of Columbia to be considered. Letters of interest must be received by the Eastern Regional Office of the U.S. Commission on Civil Rights no later than January 21, 2014. Letters of interest must be sent to the address listed below.

DATES: Letters of interest for membership on the District of Columbia Advisory Committee should be received no later than January 21, 2014.

ADDRESSES: Send letters of interest to: U.S. Commission on Civil Rights, Eastern Regional Office, 1331 Pennsylvania Ave. NW., Suite 1150, Washington, DC 20425. Letter can also be sent via email to eroaa@usccr.gov.

FOR FURTHER INFORMATION CONTACT: Ivy Davis, Regional Director, Eastern Regional Office, (202) 376-7533, idavis@usccr.gov.

SUPPLEMENTARY INFORMATION: The District of Columbia Advisory Committee (SAC) is a statutorily mandated advisory committee of the U.S. Commission on Civil Rights (Commission) pursuant to 42 U.S.C. 1975a. Under the charter for the SAC, the purpose is to provide advice and recommendations to the Commission on a broad range of civil rights matters in its respective state that pertain to alleged deprivations of voting rights or discrimination or denials of equal protection of the laws because of race, color, religion, sex, age, disability, or national origin, or the administration of justice. SACs also provide assistance to the Commission in its statutory obligation to serve as a national clearinghouse for civil rights information.

The SAC consists of not more than 19 members, each of whom will serve a two-year term. Members serve as unpaid Special Government Employees who are reimbursed for travel and expenses. To be eligible to be on a SAC, applicants must be residents of the District of Columbia and have demonstrated expertise or interest in civil rights issues.

The Commission is an independent, bipartisan agency established by Congress in 1957 to focus on matters of race, color, religion, sex, age, disability, or national origin. Its mandate is to:

• Investigate complaints from citizens that their voting rights are being deprived,

• study and collect information about discrimination or denials of equal protection under the law,

• appraise federal civil rights laws and policies,

• serve as a national clearinghouse on discrimination laws,

• submit reports and findings and recommendations to the President and the Congress, and

• issue public service announcements to discourage discrimination.

The Commission invites any individual who is eligible to be appointed a member of the District of Columbia Advisory Committee covered by this notice to send a letter of interest and a resume to the address above.

Dated: December 5, 2013.
David Mussatt,
Acting Chief, Regional Programs Coordination Unit.

[FR Doc. 2013-29412 Filed 12-9-13; 8:45 am]

BILLING CODE P